FEDERAL COMMUNICATIONS COMMISSION

Public Availability of the Federal Communications Commission FY 2010 Service Contract Inventory

AGENCY: Federal Communications Commission.

ACTION: Notice of public availability of FY 2010 Service Contract Inventory.

SUMMARY: The Federal Communications Commission is publishing this notice to advise the public of the availability of the FY 2010 Service Contract Inventory as required by Section 743 of Division C of the Consolidated Appropriations Act of 2010 (Pub. L. 111-117). This inventory provides information on service contract actions over $25,000 that were made in FY 2010. The information is organized by function to show how contracted resources are distributed throughout the agency. The inventory has been developed in accordance with guidance issued on November 5, 2010 by the Office of Management and Budget's Office of Federal Procurement Policy (OFPP). OFPP's guidance is available at: http://www.whitehouse.gov/sites/default/files/omb/procurement/memo/service-contract-inventories-guidance-11052010.pdf.

The Federal Communications Commission has posted its inventory and a summary of the inventory on the Federal Communications Commission's Web site at the following link: http://www.fcc.gov/encyclopedia/service-contract-inventory-2010.

FOR FURTHER INFORMATION CONTACT: Questions regarding the service contract inventory should be directed to Mr. Arnett Rogiers, Deputy Chief of Contracts & Purchasing Center, Administrative Operations, Office of the Managing Director at 202-418-1973 or Arnett.Rogiers@fcc.gov.

Federal Communications Commission.
Marlene H. Dortch,
Secretary.

[FR Doc. 2011-13000 Filed 5-25-11; 8:45 am]

BILLING CODE 6712-01-P